DEPARTMENT OF THE INTERIOR

Bureau of Land Management

[CA-190-0777-XG]

Notice of Emergency Closure of Selected Public Lands in Monterey County, California

AGENCY: Bureau of Land Management, DOI.

ACTION: Notice of Emergency Closure of Selected Public Lands to the Establishment of Geocaches.

SUMMARY: In accordance with 43 CFR 8364.1(a), notice is hereby given that the Bureau of Land Management (BLM) Hollister Field Office will immediately close selected public lands to the establishment of new geocaches on Fort Ord Public Lands (FOPL) within Monterey County, California. Existing geocaches will be evaluated and BLM will determine whether or not they need to be removed. Specifically, this closure pertains to public lands located within the 7,200-acre Fort Ord Public Lands in T.14, 15, & 16 S., R. 2 E., in Monterey County, California. The public is currently prohibited from engaging in off-trail recreation use as established in an Emergency Closure of Public Lands notice dated December 5, 1996 (Volume 61, Number 235).

This action is necessary to prevent geocachers from establishing new geocaches on the Fort Ord Public Lands that may expose themselves, and others, to munitions sites. The action is also intended to reduce off-trail use that can have considerable adverse effects on soil, vegetation, wildlife, endangered species, and authorized uses on the public lands.

DATES: The emergency closure is effective immediately and will remain in effect until formal geocaching policy governing the Fort Ord Public Lands (FOPL) has been completed for this area in accordance with Title 43 Code of Federal Regulations 8364.1, or until the Authorized Officer determines it is no longer needed.

ADDRESSES: Maps of the closure area may be obtained from the Hollister Field Office, 20 Hamilton Ct, Hollister, CA 95023, Phone 831-630-5000.

FOR FURTHER INFORMATION CONTACT: Rick Cooper, Field Manager, Hollister Field Office, 20 Hamilton Ct, Hollister, CA 95023. (831) 630-5000. E-mail: Rick_Cooper@ca.blm.gov or Eric Morgan, Fort Ord Project Manager, 831-394-8314. E-mail: Eric_Morgan@ca.blm.gov.

SUPPLEMENTARY INFORMATION: The Hollister Field Office initiated an Environmental Assessment (NEPA #CA-190-07-54) on August 29, 2007. Notification of the proposed action and analysis has been prominently posted in the Hollister Field Office public area and on the Field Office web page during its undertaking.

The 2007 Hollister Resource Management Plan designated non-motorized use on FOPL as “Limited” to designated (i.e. signed and shown on trail maps) routes and trails. This planning decision was preceded by an Emergency Closure in 1996 regarding the same on December 5, 1996 (Volume 61, Number 235). Unauthorized off-trail use has been increasing over the past years and has risen to a point that up to 60 existing geocaches are currently located away from trails on FOPL. Hundreds of recreationists visit geocache sites every week. Geocaching is not only extensively popular in the United States but occurs across the world. Geocaching activities on FOPL have the potential to expose visitors to dangerous munitions and are creating new trails that can cause considerable adverse impacts to soils, vegetation, wildlife, endangered species, and authorized uses on the public lands.

During the closure, informational signs and maps of the emergency closure will be clearly posted at main entry points to all locations affected by this Notice. BLM will contact the northern California Geocacher Approver and explain the problems and strategies and request that they post the following message on all the existing geocaches web-pages. Effective immediately the BLM is currently developing a geocaching policy governing the Fort Ord Public Lands that is protective of the environment and is attentive to public safety. As such, the BLM has instituted an immediate prohibition on the establishment of new geocaches on the FOPL and is evaluating existing caches (such as this one) to determine if there are any immediate issues concerning public safety and the protection of sensitive natural and historic resources. The BLM reminds geocachers that our current regulations prohibit off-trail recreation use at Fort Ord and that public lands are open to non-motorized trail users only from dawn to dusk. The current roads and trails network for non-motorized use can be seen on the web at Google Earth: http://www.palmconsulting.net/beta/GE1D4.kmz. If a person wishing to visit the area does not have Google Earth or internet access, maps of the closure area are available at the Hollister Field Office. The geocaching policy that BLM is developing will take into consideration that these lands were once a former military base and that dangerous munitions and explosives still may reside in public use areas. Visitors that remain on our designated trail systems are not in harm's way from encountering such items. If anything is encountered that appears to be a remnant of former military use of the lands (especially anything metallic) and could be a dangerous munition, please way mark the site location and call the Presidio of Monterey Policy Department at 831-242-7851 or Army munitions expert, Lyle Shurtleff at 831-242-7919. For additional information, feel free to contact Eric Morgan, Fort Ord Manager at 831-394-8314. Thanks for your attention to these matters.

Penalties: Any person who fails to comply with the provisions of this closure order may be subject to the penalties provided in 43 CFR 8364.1, which include a fine not to exceed $1,000 and/or imprisonment not to exceed 12 months.

Dated: August 30, 2007.
Rick Cooper,
Field Manager, Hollister Field Office.

[FR Doc. E7-18450 Filed 9-18-07; 8:45 am]

BILLING CODE 4310-40-P